DEPARTMENT OF THE TREASURY

Internal Revenue Service

Information Reporting Program Advisory Committee; Nominations

AGENCY: Internal Revenue Service, Department of Treasury.

ACTION: Notice and request for nominations.

SUMMARY: The Internal Revenue Service (IRS) requests nominations of individuals to be considered for selection as Information Reporting Program Advisory Committee (IRPAC) members. Individuals may nominate themselves or be nominated by interested organizations. Nominations will be accepted for current vacancies and should describe and document the applicants qualifications for membership. The IRPAC can be comprised of no more than twenty-three (23) members. There are eight (8) positions open for calendar year 2008. It is important that IRPAC continue to represent a diverse taxpayer and stakeholder base. Accordingly, to maintain membership diversity, selection is based on applicant's qualifications in addition to consideration of the segment or group he/she represents.

The IRPAC advises the IRS on information reporting issues of mutual concern to the private sector and the federal government. The committee works with the Commissioner and other IRS leadership to provide recommendations on a wide range of information reporting administration issues. Membership is balanced to include representation from the tax professional community, businesses, banking, insurance, state tax administration, colleges and universities, securities, payroll and other industries.

DATES: Written nominations must be received on or before May 31, 2007.

ADDRESSES: Nominations should be sent to Ms. Caryl Grant, National Public Liaison, CL:NPL:SRM, Room 7559 IR, 1111 Constitution Avenue, NW., Washington, DC 20224, Attn: IRPAC Nominations. Applications may be submitted by mail to the address above or faxed to 202-622-8345. Application packages are available on the Tax Professional's Page, which is located on the IRS Internet Web site at http://www.irs.gov/taxpros/index.html. Application packages may also be requested by telephone from National Public Liaison, 202-927-3641 (not a toll-free number).

FOR FURTHER INFORMATION CONTACT: Ms. Caryl Grant, at 202-927-3641 (not a toll-free number) or *Public_Liaison@irs.gov.

SUPPLEMENTARY INFORMATION: The IRPAC was established in 1991 in response to an administrative recommendation in the final Conference Report of the Omnibus Budget Reconciliation Act of 1989. Since its inception, IRPAC has worked closely with the IRS to provide recommendations on a wide range of issues intended to improve the information reporting program and achieve fairness to taxpayers. Conveying the public's perception of IRS activities to the Commissioner, the IRPAC is comprised of individuals who bring substantial, disparate experience and diverse backgrounds to the Committee's activities.

The IRPAC members are appointed by the Commissioner and serve a term of three years with approximately one third of the member's terms expiring each year. Working groups address policies and administration issues specific to information reporting. Members are not paid for their services. However, travel expenses for working sessions, public meetings and orientation sessions, such as airfare, per diem, and transportation to and from airports, train stations, etc., are reimbursed within prescribed federal travel limitations.

Receipt of applications will be acknowledged, and all individuals will be notified when selections have been made. In accordance with Department of Treasury Directive 21-03, a clearance process including, pre-appointment and annual tax checks, and a Federal Bureau of Investigation criminal and subversive name check through fingerprinting will be conducted on the final applicants.

Equal opportunity practices will be followed for all appointments to the IRPAC in accordance with the Department of Treasury and IRS policies. To ensure that the recommendations of the IRPAC have taken into account the needs of the diverse groups served by the IRS, membership shall include, to the extent practicable, individuals who demonstrate the ability to represent minorities, women, and persons with disabilities. The Secretary of Treasury will review the recommended candidates and approve final selections.

Dated: March 20, 2007.
Cynthia Vanderpool,
Designated Federal Official, National Public Liaison.

[FR Doc. E7-5856 Filed 3-30-07; 8:45 am]

BILLING CODE 4830-01-P